DEPARTMENT OF HOMELAND SECURITY

Federal Emergency Management Agency

[Docket ID FEMA-2015-0006]

Guidelines for Implementing Executive Order 11988, Floodplain Management, as Revised

AGENCY: Federal Emergency Management Agency, DHS.

ACTION: Notice.

SUMMARY: This notice seeks comment on the proposed “Revised Guidelines for Implementing Executive Order 11988, Floodplain Management.” The President has directed the Federal Emergency Management Agency (FEMA), on behalf of the Mitigation Framework Leadership Group, to publish for public comment draft amended Floodplain Management Guidelines to provide guidance to agencies on the implementation of Executive Order 11988, as amended, consistent with a new Federal Flood Risk Management Standard, which was developed by the Mitigation Framework Leadership Group in consultation with the Federal Interagency Floodplain Management Task Force. FEMA is publishing this notice on behalf of the Mitigation Framework Leadership Group, which is chaired by FEMA, to solicit and consider public input.

DATES: Comments must be received by April 6, 2015.

ADDRESSES: Comments must be identified by docket ID FEMA-2015-0006 and may be submitted by one of the following methods:

Federal eRulemaking Portal: http://www.regulations.gov. Follow the instructions for submitting comments.

Mail/Hand Delivery/Courier: Regulatory Affairs Division, Office of Chief Counsel, Federal Emergency Management Agency, 8NE, 500 C Street SW., Washington, DC 20472-3100.

FOR FURTHER INFORMATION CONTACT: Bradley Garner, Federal Emergency Management Agency, 1800 South Bell Street, Arlington, VA, 22202, 202-646-3901, FEMA-FFRMS@fema.dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of www.regulations.gov.

You may submit your comments and material by the methods specified in the ADDRESSES section above. Please submit your comments and any supporting material by only one means to avoid the receipt and review of duplicate submissions.

Docket: This notice is available in docket ID FEMA-2015-0006. For access to the docket to read background documents or comments received, go to the Federal eRulemaking Portal at http://www.regulations.gov and search for the docket ID. Submitted comments may also be inspected at FEMA, Office of Chief Counsel, 8NE, 500 C Street SW., Washington, DC 20472.

II. Background

This notice seeks comment on the proposed “Revised Guidelines for Implementing Executive Order 11988, Floodplain Management” (Guidelines). The Guidelines were first issued by the Water Resources Council in 1978, following the issuance of Executive Order 11988. The proposed Guidelines concern Executive Order 11988, which was recently amended by a new Executive Order, “Establishing a Federal Flood Risk Management Standard and a Process for Further Soliciting and Considering Stakeholder Input.” The Federal Flood Risk Management Standard (Standard) was developed by the Mitigation Framework Leadership Group in consultation with the Federal Interagency Floodplain Management Task Force, at the direction of the President. The Standard provides three approaches for defining the floodplain:

• Applying methods informed by best-available, actionable climate science,

• Adding two or three additional feet of elevation, depending on the criticality of the building or structure, above the 100-year, or 1%-annual-chance, flood elevation, or

• Using the 500-year, or 0.2%-annual-chance, flood elevation.

The Standard is consistent with the President's Climate Action Plan (June 2013). The President directed Federal agencies to take the appropriate actions to reduce risks to Federal investments, specifically calling on Federal agencies to update their flood risk reduction standards. The Standard also expands to a more national scope the work initially begun by the Hurricane Sandy Rebuilding Task Force to build back smarter in the Sandy-affected region. This expansion was a key recommendation from the Hurricane Sandy Rebuilding Strategy (August 2013) and the Recommendations of the State, Local and Tribal Leaders Task Force on Climate Preparedness and Resilience (November 2014).

In addition to this notice seeking comment, the Mitigation Framework Leadership Group is conducting a series of public meetings, which will serve as “Listening Sessions” to solicit feedback. A virtual listening session will also be held. A separate Federal Register Notice will be forthcoming detailing meeting dates and locations.

Executive Order 11988, as amended, the proposed “Revised Guidelines for Implementing Executive Order 11988, Floodplain Management,” and the Federal Flood Risk Management Standard are included in the docket for this Notice on www.regulations.gov, under docket ID FEMA-2015-0006.

Authority: Executive Order 11988, Floodplain Management, as amended; Executive Order, “Establishing a Federal Flood Risk Management Standard and a Process for Further Soliciting and Considering Stakeholder Input.”

Dated: January 30, 2015.
Roy Wright,
Deputy Associate Administrator for Mitigation, Federal Emergency Management Agency.

[FR Doc. 2015-02284 Filed 2-4-15; 8:45 am]

BILLING CODE 9111-47-P